DEPARTMENT OF COMMERCE

International Trade Administration

Proposed Information Collection: U.S. Government Trade Event Information Request

AGENCY: International Trade Administration.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before July 6, 2010.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Xiaobing Feng, (202) 482-6427, Xiaobing.Feng@trade.gov, fax: (202) 482-3508.

SUPPLEMENTARY INFORMATION:

I. Abstract

The U.S. Government (USG) Trade Event Information Request (Form ITA-4136P) is sent to any firm that requests senior-level USG witnessing of a commercial milestone, e.g., an announcement, contract, or business agreement signing, at a public event designed to highlight a company's commercial success in an overseas project or procurement competition. The Advocacy Center, appropriate ITA officials, U.S. Embassies/Consulates worldwide, and other federal government agencies that provide advocacy support to U.S. firms, will request firm(s) seeking USG advocacy support to complete the Trade Event Information Request form.

This information is needed to ensure that the subject milestone to be witnessed is either a legally-binding contract or a commercially-significant announcement, which includes highlighted U.S. export content. Furthermore, the information contained on the form helps the U.S. Department of Commerce staff determine if USG association with the event or activity is in the best interest of the USG. The information collected permits staff to review details of the milestone to be witnessed, and to make an evaluation on: (a) Whether the contract or announcement is actually ready for final signature or public disclosure; (b) whether additional USG advocacy may be required prior to the event in question; (c) whether the level of U.S. company participation and foreign government official participation, if appropriate, is at a level high enough to recommend senior-level USG participation; and (d) where U.S. export content associated with the contract/announcement would be sourced. If this information were not collected, staff could not make the appropriate evaluation prior to USG senior-level involvement.

II. Method of Collection

Information will be collected by paper format and via e-mail.

III. Data

OMB Control Number: 0625-0238.

Form Number(s): ITA-4136P.

Type of Review: Regular submission.

Affected Public: Business or other for-profit organizations.

Estimated Number of Respondents: 400.

Estimated Time per Response: 30 minutes.

Estimated Total Annual Burden Hours: 200.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 30, 2010.
Gwellnar Banks,
Management Analyst, Office of the Chief Information Officer.

[FR Doc. 2010-10534 Filed 5-4-10; 8:45 am]

BILLING CODE 3510-FP-P